FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than April 22, 2009.

A. Federal Reserve Bank of Chicago (Colette A. Fried, Assistant Vice President) 230 South LaSalle Street, Chicago, Illinois 60690-1414:

1. Montfort Bancorporation, Inc. Voting Trust (“Voting Trust”); Patrick M. Clare, as trustee of Voting Trust, various Clare Family trusts as beneficiaries of Voting Trust; Patrick M. Clare; Timothy J. Clare; Kelly A. Clare, as trustees of the Clare Family trusts, together as a group acting in concert; and Patrick M. Clare, all of Platteville, Wisconsin, individually; to acquire at least 25 percent of the voting shares of Montfort Bancorporation, Inc., and thereby indirectly acquire control of Clare Bancorporation, Inc., and Clare Bank, National Association, all of Platteville, Wisconsin.

Board of Governors of the Federal Reserve System, April 2, 2009.
Robert deV. Frierson,
Deputy Secretary of the Board.

[FR Doc. E9-7838 Filed 4-6-09; 8:45 am]

BILLING CODE 6210-01-S